NATIONAL AERONAUTICS AND SPACE ADMINISTRATION

[Notice (09-107)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: December 11, 2009.

FOR FURTHER INFORMATION CONTACT: Mark W. Homer, Patent Counsel, NASA Management Office—JPL, 4800 Oak Grove Drive, Mail Stop 180-200, Pasadena, CA 91109; telephone (818) 354-7770.

NASA Case No.: NPO-45948-1: Monolithic Afocal Telescope;

NASA Case No.: NPO-45911-1: Method to Improve Indium Bump bonding Via Indium Oxide Removal Using a Multi-Step Plasma Process;

NASA Case No.: NPO-46843-1: Metal Patch Antenna;

NASA Case No.: DRC-009-013: Smart Material Coated Fiber Bragg Grating Sensors.

Dated: December 4, 2009.
Richard W. Sherman,
Deputy General Counsel.

[FR Doc. E9-29529 Filed 12-10-09; 8:45 am]

BILLING CODE P